DEPARTMENT OF ENERGY

Federal Energy Regulatory Commission

[Jordan Cove Energy Project LP—Docket No. PF12-7-000: Pacific Connector Gas Pipeline LP—Docket No. PF12-17-000]

Notice of Intent To Prepare an Environmental Impact Statement for the Planned Jordan Cove Liquefaction and Pacific Connector Pipeline Projects, Request for Comments on Environmental Issues, and Notice of Public Scoping Meetings

The staff of the Federal Energy Regulatory Commission (FERC or Commission), in cooperation with other federal agencies, will prepare an environmental impact statement (EIS) that will discuss the environmental impacts of Jordan Cove Energy Project LP's (Jordan Cove) proposed liquefaction project in Coos County, Oregon, and Pacific Connector Gas Pipeline LP's (Pacific Connector) proposed pipeline project crossing portions of Klamath, Jackson, Douglas, and Coos Counties, Oregon. The FERC is the lead federal agency in the preparation of an EIS to satisfy the requirements of the National Environmental Policy Act (NEPA). The United States (U.S.) Army Corps of Engineers (COE), U.S. Department of Energy Office of Fossil Energy (DOE), U.S. Department of Agriculture Forest Service (Forest Service), and the U.S. Department of the Interior Bureau of Land Management (BLM), Bureau of Reclamation (Reclamation), and Fish and Wildlife Service are cooperating agencies assisting the FERC in preparation of the EIS.

The Commission will use this EIS in its decision-making process, to determine whether the Jordan Cove liquefied natural gas (LNG) terminal is in the public interest, and whether the Pacific Connector pipeline is in the public convenience and necessity, in accordance with the Natural Gas Act (NGA). The BLM and Forest Service propose to adopt the FERC EIS in accordance with Title 40 Code of Federal Regulations (CFR) 1506.3 to support decisions and findings that must be made by each agency with respect to the Pacific Connector pipeline project.

This notice announces the opening of the scoping process the Commission, Forest Service, BLM, and Reclamation will use to gather input from the public and interested agencies on the planned projects. Your input will help the Commission staff determine what issues should be evaluated in the EIS. Please note that the scoping period will close on September 4, 2012.

You may submit comments in written form or verbally. Further details on how to submit written comments are in the Public Participation section of this notice. In lieu of or in addition to sending in written comments, the Commission invites you to make verbal comments ¹ at the public scoping meetings scheduled as follows:

¹ Verbal comments at the public scoping meetings will be transcribed by a court reporter and placed into the public record for these proceedings.

Monday, August 27, 2012, 6:30 p.m. | Tuesday, August 28, 2012, 6:30 p.m.
Southwestern Oregon Community College, Hales Performing Arts Center, 1988 Newmark Ave., Coos Bay, OR 97420, 541-888-2525 | Umpqua Community College, Campus Center Dining Room, 1140 Umpqua College Rd., Roseburg, OR 97470, 541-440-4600
Wednesday, August 29, 2012, 6:30 p.m. | Thursday, August 30, 2012, 6:30 p.m.
Oregon Institute of Technology, College Union Auditorium, 3201 Campus Dr., Klamath Falls, OR 97601, 541-885-1030 | Medford School District, Education Center Auditorium, 815 S. Oakdale Ave., Medford, OR 97501, 541-842-3636.

This notice is being sent to the Commission's current environmental mailing list for these projects. State and local government representatives should notify their constituents about these projects and this scoping effort, and encourage interested members of the public to comment on their areas of concern.

If you are a landowner receiving this notice, a Pacific Connector representative may contact you about the acquisition of an easement to construct, operate, and maintain the planned facilities. The company would seek to negotiate a mutually acceptable agreement. However, if the Commission approves the Pacific Connector pipeline project, that approval conveys with it the right of eminent domain. Therefore, if easement negotiations fail to produce an agreement, the pipeline company could initiate condemnation proceedings where compensation would be determined in accordance with state law.

A fact sheet prepared by the FERC entitled “An Interstate Natural Gas Facility On My Land? What Do I Need To Know?” is available for viewing on the FERC Web site (www.ferc.gov). This fact sheet addresses a number of typically-asked questions, including the use of eminent domain and how to participate in the Commission's proceedings.

Background

On December 17, 2009, the Commission issued an Order authorizing the Jordan Cove LNG import terminal in Docket No. CP07-444-000 and Pacific Connector pipeline in Docket No. CP07-441-000. The Commission vacated those authorizations in an Order issued April 16, 2012, after Jordan Cove submitted its request to begin the pre-filing process to change the facility's purpose from an LNG import terminal to an export terminal.

The FERC staff and cooperating agencies produced an EIS for the previous projects in May 2009. The new EIS for the currently proposed projects will make use of the previous analyses, update information, as needed, and evaluate the impacts associated with the new or modified facilities and routes.

Summary of the Planned Projects

Jordan Cove proposes to construct and operate an LNG export terminal on the North Spit of Coos Bay. The terminal would have the capacity to produce about six million metric tons per annum (MMTPA) of LNG (equivalent to 0.9 billion cubic feet per day [Bcf/d] of natural gas). Facilities would include:

• 7.3-mile-long waterway in Coos Bay for about 80 LNG carriers per year;

• 0.3-mile-long access channel and marine berth;

• A cryogenic transfer pipeline;

• Two 160,000 cubic meter LNG storage tanks;

• Four liquefaction trains (each with a capacity of 1.5 MMTPA);

• two feed gas and dehydration trains with a combined throughput of 1 Bcf/d of natural gas; and

• a 350 megawatt South Dunes power plant.

The Pacific Connector pipeline would be 36-inches-in-diameter and about 230-miles-long, extending from interconnections with other interstate pipelines near Malin, Oregon to the Jordan Cove LNG terminal at Coos Bay. The pipeline would have a design capacity of 0.9 Bcf/d of natural gas. Related facilities include:

• Two meter stations at the interconnections with the existing Gas Transmission Northwest (GTN) and Ruby pipelines near Malin, in Klamath County, Oregon;

• A 23,000-horsepower compressor station adjacent to the GTN and Ruby meter stations;

• A meter station at the interconnection with the existing Williams Northwest Pipeline system near Myrtle Creek, in Douglas County, Oregon; and

• A meter station at the Jordan Cove terminal, in Coos County, Oregon.

The general location of the project facilities is shown in Appendix 1.²

² The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

Land Requirements for Construction

The newly proposed Jordan Cove LNG export terminal in PF12-7-000 occupies the same footprint that was analyzed in our ³ May 2009 EIS, with the addition of the South Dunes power plant at the location of the previously proposed dredged material placement area. Likewise, the Pacific Connector pipeline as proposed in Docket PF12-17-000 basically follows the route that was previously analyzed, with a few minor adjustments, and the relocation of the compressor station to the east end of the project.

³ “We,” “us,” and “our” refer to the environmental staff of the Commission's Office of Energy Projects.

As presented in our May 2009 EIS, construction of the Jordan Cove's LNG terminal would affect about 390 acres onshore, with an additional 72 acres needed to construct the marine berth and access channel for the LNG ships in Coos Bay. Construction of the Pacific Connector pipeline would affect a total of about 6,217 acres. The permanent operational easement for the pipeline right-of-way (ROW) and aboveground facilities would occupy about 1,439 acres.

The EIS Scoping Process

The NEPA requires the Commission to take into account the environmental impacts that could result from an action whenever it considers the issuance of a Certificate of Public Convenience and Necessity, or makes a public interest determination. The NEPA also requires us to discover and address concerns the public may have about proposals. This process is referred to as scoping. The main goal of the scoping process is to focus the analysis in the EIS on the important environmental issues. By this notice, the Commission requests public comments on the scope of the issues to be addressed in the EIS. We will consider all filed comments during the preparation of the EIS.

In the EIS we will discuss impacts that could occur as a result of the construction and operation of the planned projects under these general headings:

• Land use;

• Geology and soils;

• Water resources and wetlands;

• Vegetation and wildlife;

• Cultural resources;

• Recreation and visual resources;

• Air quality and noise; and

• Public safety.

We will also evaluate possible alternatives to the planned projects or portions of the projects, and make recommendations on how to lessen or avoid impacts on the various environmental resources. The EIS will present our independent analysis of the issues.

Although no formal applications have been filed yet, we have already initiated our NEPA review under the Commission's pre-filing process. The purpose of the pre-filing process is to encourage early involvement of interested stakeholders, and to identify and resolve issues before the FERC receives an application. As part of our pre-filing review, we have begun to contact some federal and state agencies to discuss their involvement in the scoping process and the preparation of the EIS.

The COE, DOE, Forest Service, BLM, and Reclamation also have responsibilities under the NEPA, and can adopt the EIS for their own agencies purposes. The BLM, Reclamation, and Forest Service will use this EIS to evaluate the effects of the Pacific Connector pipeline project on lands and facilities managed by these agencies. The BLM and Forest Service will also use the EIS to address proposed amendments of their respective land management plans ⁴ that may be necessary to make provision for the project.

⁴ BLM land management plans are called “Resource Management Plans” or RMPs. Forest Service land management plans are called “Land and Resource Management Plans” or LRMPs. The term “land management plan” is generic and may apply to either an RMP or LRMP.

With this notice, we are asking other agencies with jurisdiction by law and/or special expertise with respect to the environmental issues related to the projects to formally cooperate with us in the preparation of the EIS.⁵ Agencies that would like to request cooperating agency status should follow the instructions for filing comments provided under the Public Participation section of this notice.

⁵ The Council on Environmental Quality regulations addressing cooperating agency responsibilities are at 40 CFR 1501.6.

We will publish and distribute a draft EIS for public comment. After the comment period, we will consider all timely comments and revise the document, as necessary, before issuing a final EIS. To ensure we have the opportunity to consider and address your comments, please carefully follow the instructions in the Public Participation section of this notice.

Consultations Under Section 106 of the National Historic Preservation Act

In accordance with the Advisory Council on Historic Preservation's implementing regulations for section 106 of the National Historic Preservation Act (NHPA), we are using this notice to initiate consultations with the Oregon State Historic Preservation Office (SHPO), and to solicit its views, and those of other government agencies, interested Indian tribes, and the public on the projects' potential effects on historic properties.⁶ The EIS will define the project-specific area of potential effects (APE), determined in consultation with the SHPO. On natural gas projects, the APE at a minimum encompasses all areas subject to ground disturbance (including the construction ROW, temporary extra workspaces, contractor/pipe storage yards, compressor stations and other aboveground facilities, and access roads). The EIS will document our findings on the projects' potential impacts on historic properties and summarize the status of consultations under section 106. The cooperating agencies will also participate in the section 106 consultation process to ensure that their requirements under the NHPA are met.⁷

⁶ The Advisory Council on Historic Preservation regulations are at 36 CFR part 800. Those regulations define historic properties as any prehistoric or historic district, site, building, structure, or object included in or eligible for inclusion in the National Register for Historic Places.

⁷ We and the federal land managing agencies previously executed a Memorandum of Agreement (MOA) to resolve adverse effects at historic properties for the Jordan Cove LNG terminal and Pacific Connector pipeline in Docket Nos. CP07-441-000 and CP07-444-000. The MOA will be amended for the new proposals under Docket Nos. PF12-7-000 and PF12-17-000.

Currently Identified Environmental Issues

The purpose of the public scoping process is to determine relevant issues that will influence the scope of the environmental analysis, including alternatives. Scoping also allows the public to comment on the BLM and Forest Service plan amendment process, and the consideration of a ROW Grant.

Based in part on our previous environmental analysis, information provided by Jordan Cove and Pacific Connector for their new proposals, and input from other federal and state resource agencies, and other stakeholders, we have already identified several issues that we think deserve attention during our current review. This preliminary list of environmental issues may change based on your comments and our further analysis. The FERC staff identified the following preliminary list of issues:

• Reliability and safety for LNG carrier traffic in Coos Bay, the LNG terminal, and the pipeline;

• Impacts on aquatic resources from dredging the LNG terminal access channel and berth, and pipeline trenching in Coos Bay;

• Geological hazards to the LNG terminal from seismic activity;

• Geological hazards, including landslides at steep slopes, along the pipeline route;

• Impacts of pipeline construction on federally listed threatened and endangered species, including salmon, marbled murrelet, and northern spotted owl;

• Impacts of pipeline construction on private landowners; and

• Visual impacts resulting from construction and operation of the projects.

Preliminary issues for the plan amendments have been identified by BLM and Forest Service staff. The issues include:

• Effects of proposed amendments on Survey and Manage species and their habitat;

• Effects of proposed amendments on contiguous existing or recruitment habitat for marbled murrelets within 0.5 mile of occupied marbled murrelet sites;

• Effects of proposed amendments on habitat in Known Owl Activity Centers (KOAC); and

• Effects of the proposed amendments on Late Successional Reserves (LSR).

Preliminary BLM and Forest Service planning criteria include:

• Evaluation of significance of proposed amendments of Forest Service Land and Resource Management Plans (LRMP) in the context of goals and objectives of the affected LRMPs. Whether a plan amendment is significant is guided by several factors, including the timing and duration of the proposed change, the location and size of the project, and how the proposed change could alter multiple-use goals and objectives for long-term land and resource management;

• Likelihood of persistence of affected Survey and Manage species within the range of the northern spotted owl;

• Amount and quality of marbled murrelet habitat affected by construction and operation of the Pacific Connector pipeline project;

• Amount and quality of habitat in KOAC affected by construction and operation of the Pacific Connector pipeline project;

• Functionality of LSR; and

• Impacts on Connectivity and Diversity Blocks on BLM lands.

The BLM and Forest Service seek public input on issues and planning criteria related to amendment of their District and Forest land management plans related to the Pacific Connector pipeline project. The BLM, Reclamation, and Forest Service also seek public input on issues and planning criteria related to issuance of the ROW Grant, as discussed below (under Proposed Actions of the BLM and Forest Service).

Proposed Actions of the DOE

The DOE must meet its obligation under section 3 of the NGA, to authorize the import and export of natural gas, including LNG, unless it finds that the proposed import or export will not be consistent with the public interest. The purpose and need for DOE actions is to respond to the application filed by Jordan Cove with the DOE on March 23, 2012 (FE Docket No. 12-32-LNG), seeking authorization to export up to 6 MMTPA of LNG, an export volume equivalent to about 292 Bcf per year of natural gas, for a 25-year period, commencing the earlier of the date of first export or seven years from the date of issuance of the requested authorization. The LNG proposed for export would be from Jordan Cove's proposed Coos Bay terminal to any country: (1) With which the U.S. does not have a free trade agreement requiring the national treatment for trade in natural gas; (2) that has, or in the future develops, the capacity to import LNG; and (3) with which trade is not prohibited by U.S. law or policy.

Because the proposed projects may involve actions in floodplains, in accordance with 10 CFR part 1022, Compliance with Floodplain and Wetland Environmental Review Requirements, the EIS will include a floodplain assessment, as appropriate. A floodplain statement of findings will be included in any DOE determinations.

Proposed Actions of the BLM and Forest Service

The purpose of and need for the proposed action by the BLM is to respond to a ROW Grant application originally submitted by Pacific Connector on April 17, 2006 to construct, operate, maintain, and eventually decommission a natural gas pipeline that crosses lands and facilities administered by the BLM, Reclamation, and Forest Service. In addition, there is a need for the BLM and the Forest Service to consider amending affected District and Forest land management plans to make provision for the Pacific Connector ROW.

The proposed action of the BLM and Forest Service has two components. First, the BLM would amend its Resource Management Plans (RMP) for the Coos Bay, Roseburg, and Medford Districts, and Klamath Falls Resource Area of the Lakeview District; while the Forest Service would amend its LRMPs for the Umpqua, Rogue River, and Winema National Forests to make provisions for the Pacific Connector pipeline project. Reclamation has no land use plan amendments associated with this action. Second, in accordance with 43 CFR 2882.3(i), the BLM would issue a ROW Grant in response to Pacific Connector's application for the project to occupy federal lands, with the written concurrence of the Forest Service and Reclamation. Each agency may submit specific stipulations, including mitigation measures, for inclusion in the ROW Grant related to lands, facilities, and easements within their respective jurisdictions.

The Secretary of the Interior has delegated authority to the BLM to grant a ROW in response to Pacific Connector's application for natural gas transmission on federal lands under the Mineral Leasing Act of 1920. The Responsible Official for amendments of BLM RMPs and issuance of the ROW Grant is the BLM Oregon/Washington State Director. The Responsible Official for amendment of Forest Service LRMPs is the Forest Supervisor of the Umpqua National Forest. The Responsible Official for concurrence on issuance of the ROW Grant by Reclamation is the Area Manager of the Mid-Pacific Region's Klamath Basin Area Office. In accordance with 36 CFR 219.17(b)(2), the Deciding Official for the Forest Service has elected to use the 1982 planning rule procedures to amend Forest Service LRMPs as provided in the transition procedures of the 2000 planning rule.

If the BLM adopts the new FERC EIS for the Pacific Connector pipeline project (in Docket No. PF12-17-000), the Oregon/Washington State Director of the BLM will make the following decisions and determinations:

• Determine whether to amend the RMPs for the BLM Coos Bay, Roseburg, and Medford Districts and the Klamath Falls Resource Area of the Lakeview District as proposed or as described in an alternative to the Proposed Action; and

• Respond to the Pacific Connector application, with concurrence of Reclamation and Forest Service, by issuing a ROW Grant, granting the ROW with conditions, or denying the application.

If the Forest Service adopts the new FERC EIS for the Pacific Connector pipeline project (in Docket No. PF12-17-000), the Forest Supervisor of the Umpqua National Forest will make the following decisions and determinations:

• Decide whether to amend the LRMPs of the Umpqua, Rogue River, and Winema National Forests as proposed or as described in an alternative; and

• Determine the significance of the proposed amendments or alternatives in accordance with national forest planning regulation 36 CFR 219.10(f) (1982 procedures) using criteria in Forest Service Manual 1926.5

Amendment of BLM and Forest Service Land Management Plans

BLM/FS-1—Site-Specific Waiver of Management Recommendations for Survey and Manage Species on the BLM Coos Bay District, Roseburg District, Medford District, and Klamath Falls Resource Area of the Lakeview District RMPs, and the Umpqua National Forest, Rogue River National Forest, and Winema National Forest LRMPs

Applicable BLM District RMPs and National Forest LRMPs would be amended to exempt certain known sites within the area of the proposed Pacific Connector ROW Grant from the Management Recommendations required by the 2001 “Record of Decision and Standards and Guidelines for Amendments to the Survey and Manage, Protection Buffer, and other Mitigation Measures Standards and Guidelines,” as modified in July 2011. For known sites within the proposed ROW that cannot be avoided, the 2001 Management Recommendations for protection of known sites of Survey and Manage species would not apply. For known sites located outside the proposed ROW but with an overlapping protection buffer only that portion of the buffer within the ROW would be exempt from the protection requirements of the Management Recommendations. Those Management Recommendations would remain in effect for that portion of the protection buffer that is outside of the ROW. The proposed amendment would not exempt the BLM or the Forest Service from the requirements of the 2001 Survey and Manage Record of Decision, as modified, to maintain species persistence for affected Survey and Manage species within the range of the northern spotted owl. This is a site-specific amendment applicable only to the Pacific Connector ROW and would not change future management direction at any other location.

Amendments of BLM RMPs

BLM-1—Site-Specific Exemption of Requirement To Protect Marbled Murrelet Habitat on the BLM Coos Bay and Roseburg Districts

The Coos Bay District and Roseburg District RMPs would be amended to waive the requirements to protect contiguous existing and recruitment habitat for marbled murrelets within the Pacific Connector ROW that is within 0.5 miles of occupied marbled murrelet sites, as mapped by the BLM. This is a site-specific amendment applicable only to the Pacific Connector ROW and would not change future management direction at any other location.

BLM-2—Site Specific Exemption of Requirement To Retain Habitat in KOAC on the BLM Roseburg District

The Roseburg District RMP would be amended to exempt the Pacific Connector pipeline project from the requirement to retain habitat in KOAC at three locations. This is a site-specific amendment applicable only to the Pacific Connector ROW and would not change future management direction at any other location.

BLM-3—Reallocation of Matrix Lands to LSR, Roseburg District

The Roseburg District RMP would be amended to change the designation of approximately 409 acres from Matrix land allocations to the LSR land allocation in Sections 32 and 34, Township (T.) 29½ South (S.), Range (R.) 7 West (W.); and Section 1, T.30S., R.7W.,Willamette Meridian (W.M.), Oregon (OR). This change in land allocation is proposed to mitigate the potential adverse impact of the Pacific Connector pipeline project on LSRs in the Roseburg District. The amendment would change future management direction for the lands reallocated from Matrix lands to LSR.

BLM-4—Reallocation of Matrix Lands to LSR, Coos Bay District

The Coos Bay District RMP would be amended to change the designation of approximately 454 acres from Matrix land allocations to the LSR land allocation in Sections 19 and 29 of T.28S., R.10W., W.M., OR. This change in land allocation is proposed to mitigate the potential adverse impact of the Pacific Connector pipeline project on LSRs in the Coos Bay District. The amendment would change future management direction for the lands reallocated from Matrix lands to LSR.

Amendment of the Umpqua National Forest LRMP

UNF-1—Site-Specific Amendment To Allow Removal of Effective Shade on Perennial Streams

The Umpqua National Forest LRMP would be amended to change the Standards and Guidelines for Fisheries (Umpqua National Forest LRMP, page IV-33, Forest-Wide) to allow the removal of effective shading vegetation where perennial streams are crossed by the Pacific Connector ROW. This change would potentially affect an estimated total of three acres of effective shading vegetation at approximately five perennial stream crossings in the East Fork of Cow Creek subwatershed from pipeline mileposts (MP) 109 to 110 in Sections 16 and 21, T.32S., R.2W., W.M., OR. This is a site-specific amendment applicable only to the Pacific Connector ROW and would not change future management direction at any other location.

UNF-2—Site-Specific Amendment To Allow Utility Corridors in Riparian Areas

The Umpqua National Forest LRMP would be amended to change prescriptions C2-II (LRMP IV-173) and C2-IV (LRMP IV-177) to allow the Pacific Connector pipeline route to run parallel to the East Fork of Cow Creek for approximately 0.1 mile between about pipeline MPs 109.5 and 109.6 in Section 21, T.32S., R.2W., W. M., OR. This change would potentially affect approximately one acre of riparian vegetation along the East Fork of Cow Creek. This is a site-specific amendment applicable only to the Pacific Connector ROW and would not change future management direction at any other location.

UNF-3—Site-Specific Amendment To Waive Limitations on Detrimental Soil Conditions Within the Pacific Connector ROW in All Management Areas

The Umpqua National Forest LRMP would be amended to waive limitations on the area affected by detrimental soil conditions from displacement and compaction within the Pacific Connector ROW. Standards and Guidelines for Soils (LRMP page IV-67) requires that not more than 20 percent of the project area have detrimental compaction, displacement, or puddling after completion of a project. This is a site-specific amendment applicable only to the Pacific Connector ROW and would not change future management direction at any other location.

UNF-4—Reallocation of Matrix Lands to LSR

The Umpqua National Forest LRMP would be amended to change the designation of approximately 588 acres from Matrix land allocations to the LSR land allocation in Sections 7, 18, and 19, T.32S., R.2W.; and Sections 13 and 24, T.32S., R.3W., W.M., OR. This change in land allocation is proposed to partially mitigate the potential adverse impact of the Pacific Connector pipeline project on LSR 223 on the Umpqua National Forest. This amendment would change future management direction for the lands reallocated from Matrix to LSR.

Amendment of the Rogue River National Forest LRMP

RRNF-1—Amendment To Provide for Energy Transmission

The Rogue River National Forest LRMP would be amended to establish a Forest Plan objective that states: “While considering other multiple use values, the Forest shall facilitate and make provision for energy transmission via the Pacific Connector consistent with the Energy Policy Act of 2005, the Mineral Leasing Act, the Natural Gas Act, the Multiple Use Sustained Yield Act, and the National Forest Management Act.”

RRNF-2—Site-Specific Amendment of Visual Quality Objectives (VQO) on the Big Elk Road

The Rogue River National Forest LRMP would be amended to change the VQO where the Pacific Connector pipeline route crosses the Big Elk Road at about pipeline MP 161.4 in Section 16, T.37S., R.4E., W.M., OR, from Foreground Retention (Management Strategy 6, LRMP page 4-72) to Foreground Partial Retention (Management Strategy 7, LRMP page 4-86) and allow 10-15 years for amended VQO to be attained. The existing Standards and Guidelines for VQO in Foreground Retention where the Pacific Connector pipeline route crosses the Big Elk Road require that VQOs be met within one year of completion of the project and that management activities not be visually evident. This amendment would apply only to the Pacific Connector pipeline project in the vicinity of Big Elk Road and would not change future management direction for any other project.

RRNF-3—Site-Specific Amendment of VQO on the Pacific Crest Trail

The Rogue River National Forest LRMP would be amended to change the VQO where the Pacific Connector pipeline route crosses the Pacific Crest Trail at about pipeline MP 168 in Section 32, T.37S., R.5E., W.M., OR, from Foreground Partial Retention (Management Strategy 7, LRMP page 4-86) to Modification (USDA Forest Service Agricultural Handbook 478) and to allow 15-20 years for amended VQOs to be attained. The existing Standards and Guidelines for VQOs in Foreground Partial Retention in the area where the Pacific Connector pipeline route crosses the Pacific Crest Trail require that visual mitigation measures meet the stated VQO within three years of the completion of the project and that management activities be visually subordinate to the landscape. This amendment would apply only to the Pacific Connector pipeline project in the vicinity of the Pacific Crest Trail and would not change future management direction for any other project.

RRNF-4—Site-Specific Amendment of Visual Quality Objectives Adjacent to Highway 140

The Rogue River National Forest LRMP would be amended to allow 10-15 years to meet the VQO of Middleground Partial Retention between Pacific Connector pipeline MPs 156.3 to 156.8 and 157.2 to 157.5 in Sections 11 and 12, T.37S., R.3E., W.M., OR. Standards and Guidelines for Middleground Partial Retention (Management Strategy 9, LRMP Page 4-112) require that VQOs for a given location be achieved within three years of completion of the project. Approximately 0.8 miles or 9 acres of the Pacific Connector ROW in the Middleground Partial Retention VQO visible at distances of 0.75 to 5 miles from State Highway 140 would be affected by this amendment. This amendment would apply only to the Pacific Connector pipeline project in Sections 11 and 12, T.37S., R.3E., W.M., OR, and would not change future management direction for any other project.

RRNF-5—Site-Specific Amendment To Allow Utility Transmission Corridors in Management Strategy 26, Restricted Riparian Areas

The Rogue River National Forest LRMP would be amended to allow the Pacific Connector ROW to cross the Restricted Riparian land allocation. This would potentially affect approximately 2.5 acres of the Restricted Riparian Management Strategy at one perennial stream crossing on the South Fork of Little Butte Creek at about pipeline MP 162.45 in Section 15, T.37S., R.4E., W.M., OR. Standards and Guidelines for the Restricted Riparian land allocation prescribe locating transmission corridors outside of this land allocation (Management Strategy 26, LRMP page 4-308,). This is a site-specific amendment applicable only to the Pacific Connector ROW and would not change future management direction at any other location.

RRNF-6—Site-Specific Amendment To Waive Limitations on Detrimental Soil Conditions Within the Pacific Connector ROW in All Management Areas

The Rogue River National Forest LRMP would be amended to waive limitations on areas affected by detrimental soil conditions from displacement and compaction within the Pacific Connector ROW in all affected Management Strategies. Standards and Guidelines for detrimental soil impacts in affected Management Strategies require that no more than 10 percent of an activity area should be compacted, puddled or displaced upon completion of project (not including permanent roads or landings). No more than 20 percent of the area should be displaced or compacted under circumstances resulting from previous management practices including roads and landings. Permanent recreation facilities or other permanent facilities are exempt (RRNF LRMP 4-41, 4-83, 4-97, 4-123, 4-177, 4-307). This is a site-specific amendment applicable only to the Pacific Connector ROW and would not change future management direction at any other location.

RRNF-7—Reallocation of Matrix Lands to LSR

The Rogue River National Forest LRMP would be amended to change the designation of approximately 512 acres from Matrix land allocations to the LSR land allocation in Section 32, T.36S., R.4E. W.M., OR. This change in land allocation is proposed to partially mitigate the potential adverse impact of the Pacific Connector pipeline project on LSR 227 on the Rogue River National Forest. This amendment would change future management direction for the lands reallocated from Matrix to LSR.

Amendment of the Winema National Forest LRMP

WNF-1—Site-Specific Amendment To Allow Utility Corridors in Management Area 3

The Winema National Forest LRMP would be amended to change the Standards and Guidelines for Management Area 3 (MA-3) (LRMP page 4-103-4, Lands) to allow the 95-foot-wide Pacific Connector pipeline corridor in MA-3 from the Forest Boundary in Section 32, T.37S., R.5E., W.M., OR, to the Clover Creek Road corridor in Section 4, T.38S, R.5. E., W.M., OR. Standards and Guidelines for MA-3 state that the area is currently an avoidance area for new utility corridors. This proposed new utility corridor is approximately 1.5 miles long and occupies approximately 17 acres. This is a site-specific amendment applicable only to the Pacific Connector ROW and would not change future management direction at any other location.

WNF-2—Site-Specific Amendment of VQO on the Dead Indian Memorial Highway

The Winema National Forest LRMP would be amended to allow 10-15 years to achieve the VQO of Foreground Retention where the Pacific Connector ROW crosses the Dead Indian Memorial Highway at approximately pipeline MP 168.8 in Section 33, T.37S., R.5E., W. M., OR. Standards and Guidelines for Scenic Management, Foreground Retention (LRMP 4-103, MA 3A, Foreground Retention) requires VQOs for a given location be achieved within one year of completion of the project. The Forest Service proposes to allow 10-15 years to meet the specified VQO at this location. This is a site-specific amendment that would apply only to the Pacific Connector pipeline project in the vicinity of the Dead Indian Memorial Highway and would not change future management direction for any other project.

WNF-3—Site-Specific Amendment of VQO Adjacent to the Clover Creek Road

The Winema National Forest LRMP would be amended to allow 10-15 years to meet the VQO for Scenic Management, Foreground Partial Retention, where the Pacific Connector Right-of-Way is adjacent to the Clover Creek Road from approximately pipeline MP 170 to 175 in Sections 2, 3, 4, 11, and 12, T.38S., R.5E., and Sections 7 and 18, T.38S., R.6E., W.M., OR. This change would potentially affect approximately 50 acres. Standards and Guidelines for Foreground Partial Retention (LRMP, page 4-107, MA 3B) require that VQOs be met within three years of completion of a project. This is a site-specific amendment would apply only to the Pacific Connector pipeline project in the vicinity of Clover Creek Road and would not change future management direction for any other project.

WNF-4—Site-Specific Amendment To Waive Limitations on Detrimental Soil Conditions Within the Pacific Connector ROW in All Management Areas

The Winema National Forest LRMP would be amended to waive restrictions on detrimental soil conditions from displacement and compaction within the Pacific Connector ROW in all affected management areas. Standards and Guidelines for detrimental soil impacts in all affected management areas require that no more than 20 percent of the activity area be detrimentally compacted, puddled, or displaced upon completion of a project (LRMP page 4-73, 12-5). This is a site-specific amendment applicable only to the Pacific Connector ROW and would not change future management direction at any other location.

WNF-5—Site-Specific Amendment To Waive Limitations on Detrimental Soil Conditions Within the Pacific Connector ROW in Management Area 8

The Winema National Forest LRMP would be amended to waive restrictions on detrimental soil conditions from displacement and compaction within the Pacific Connector ROW within the Management Area 8, Riparian Area (MA-8). This change would potentially affect approximately 0.5 mile or an estimated 9.6 acres of MA-8. Standards and Guidelines for Soil and Water, MA-8 require that not more than 10 percent of the total riparian zone in an activity area be in a detrimental soil condition upon the completion of a project (LRMP page 4-137, 2). This is a site-specific amendment applicable only to the Pacific Connector ROW and would not change future management direction at any other location.

Public Participation

You can make a difference by providing us with your specific comments or concerns about the Jordan Cove and Pacific Connector projects, and proposed BLM and Forest Service land management plan amendments. Your comments should focus on the potential environmental effects, reasonable alternatives, and measures to avoid or lessen environmental impacts. The more specific your comments, the more useful they will be. To ensure that your comments are timely and properly recorded, please send your comments so that the Commission receives them in Washington DC on or before September 4, 2012.

The BLM, Reclamation, and Forest Service are participating as cooperating agencies with the FERC in this public scoping process. With this notice, the BLM is requesting comments through the FERC's public scoping process on proposed amendments of BLM RMPs to make provision for the Pacific Connector ROW on the Coos Bay, Roseburg, and Medford Districts and Klamath Falls Resource Area of the Lakeview District. The BLM is also requesting public comments on the issuance of the ROW Grant that would allow the Pacific Connector pipeline to occupy federal land. The Forest Service is requesting public comments on the proposed amendments of Forest Service LRMPs to make provision for the Pacific Connector ROW on the Rogue River, Umpqua, and Winema National Forests. Timely comments submitted by the public in response to the NOI previously issued by the Forest Service to make provision for the Pacific Connector ROW, published in the Federal Register on June 15, 2009 (Vol. 74, No. 113, pages 27214-28217), will be considered in this scoping process if they are applicable to the current Forest Service proposal. Reclamation has no proposed land management plan amendments, but will consider comments related to the ROW Grant on Reclamation-administered lands and facilities.

Comments on actions by the BLM, Reclamation, or Forest Service should be submitted through the FERC comment process and within the timeline described. The submission of timely and specific comments can affect a reviewer's ability to participate in subsequent administrative or judicial review of BLM and Forest Service decisions. Comments concerning BLM and Forest Service actions submitted anonymously will be accepted and considered; however such anonymous submittals would not provide the commenters with standing to participate in administrative or judicial review of BLM and Forest Service decisions.

For your convenience, there are three methods you can use to submit your comments to the FERC. In all instances, please reference the docket numbers for these projects (PF12-7-000 and PF12-17-000) with your submission. The Commission encourages electronic filing of comments, and has expert staff available to assist you at (202) 502-8258 or efiling@ferc.gov.

(1) You can file your comments electronically using the eComment feature located on the Commission's Web site (www.ferc.gov) under the Documents & Filings link. This is an easy method for interested persons to submit brief, text-only comments on a project;

(2) You can file your comments electronically using the eFiling feature located on the Commission's Web site (www.ferc.gov) under the Documents & Filings link. With eFiling, you can provide comments in a variety of formats by attaching them as a file with your submission. New eFiling users must first create an account by clicking on “eRegister.” You must select the type of filing you are making. If you are filing a comment on a particular project, please select “Comment on a Filing;” or

(3) You can file a paper copy of your comments by mailing them to the following address: Kimberly D. Bose, Secretary, Federal Energy Regulatory Commission, 888 First Street NE., Room 1A, Washington, DC 20426.

Before including your address, phone number, email address, or other personal identifying information in your comments, you should be aware that the entire text of your comments—including your personal identifying information—would be publicly available through the FERC eLibrary system, if you file your comments with the Secretary of the Commission.

Environmental Mailing List

The FERC's environmental mailing list includes federal, state, and local government representatives and agencies; elected officials; environmental groups and non-governmental organizations; interested Indian tribes; other interested parties; and local libraries and newspapers. This list also includes all affected landowners (as defined in the Commission's regulations) who are potential right-of-way grantors, whose property may be used temporarily for project purposes, or who own homes within certain distances of aboveground facilities, and anyone who submits comments on the projects. We will update the environmental mailing list as the analysis proceeds to ensure that we send the information related to this environmental review to all individuals, organizations, and government entities interested in and/or potentially affected by the planned projects. Please note that if you submitted comments on the previously reviewed projects (CP07-441-000 and CP07-444-000) and want to be involved in the currently proposed projects (PF12-7-000 and PF12-17-000) you must resubmit comments.

Copies of the completed draft EIS on compact discs (CD) will be sent to the environmental mailing list for public review and comment. If you would prefer to receive a paper copy of the document instead of the CD version, or would like to remove your name from the mailing list, please return the attached Information Request (Appendix 2).

Becoming an Intervenor

Once Jordan Cove and Pacific Connector file their applications with the FERC, the Commission will issue a Notice of Application. In response to the Notice of Application, you may want to file a request to become an “intervenor,” which is an official party to the Commission's proceeding. Intervenors play a more formal role in the FERC process, and are able to file briefs, appear at hearings, and be heard by the courts if they choose to appeal the Commission's final ruling. Instructions for becoming an intervenor are in the User's Guide under the “e-filing” link on the Commission's Web site. Please note that the Commission will not accept requests for intervenor status during the pre-filing period. You must wait until the Commission receives applications for these projects.

Administrative Review of BLM and Forest Service Decisions To Amend Land Management Plans

Decisions by the BLM and Forest Service to amend land management plans are subject to administrative review. In accordance with 36 CFR 219.59, the Forest Service has elected to use the administrative review procedures (otherwise known as protest procedures) of the BLM. Administrative objections to Forest Service land management plan amendment decisions and protests of BLM land management plan amendment decisions may be filed under the provisions of 43 CFR 1610.5-2.

Additional Information

Additional information about the projects is available from the Commission's Office of External Affairs, at (866) 208-FERC, or on the FERC Web site (www.ferc.gov). On the FERC Web page, go to Documents & Filings, and click on the eLibrary link. Then click on “General Search,” and enter the docket number, excluding the last three digits in the field (i.e., PF12-7 or PF12-17). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/esubscribenow.htm.

Finally, public meetings or site visits will be posted on the Commission's calendar located at www.ferc.gov/EventCalendar/EventsList.aspx along with other related information.

Dated: August 2, 2012.
Kimberly D. Bose,
Secretary.

[FR Doc. 2012-19781 Filed 8-10-12; 8:45 am]

BILLING CODE 6717-01-P